DEPARTMENT OF DEFENSE

GENERAL SERVICES ADMINISTRATION

NATIONAL AERONAUTICS AND SPACE ADMINISTRATION

[OMB Control No. 9000-0010; Docket No. 2018-0053; Sequence No. 1]

Information Collection; Progress Payments (SF-1443)

AGENCIES: Department of Defense (DOD), General Services Administration (GSA), and National Aeronautics and Space Administration (NASA).

ACTION: Notice and request for comments.

SUMMARY: In accordance with the Paperwork Reduction Act of 1995 and the Office of Management and Budget (OMB) regulations, the FAR Council invites the public to comment upon a renewal for the Standard Form (SF) 1443, Contractor's Request for Progress Payment, and the Federal Acquisition Regulation (FAR) 52.232-16, Progress Payments. There are no changes to the existing information collection.

DATES: Submit comments on or before June 26, 2018.

ADDRESSES: The FAR Council invites interested persons to submit comments on this collection by either of the following methods:

• Federal eRulemaking Portal: This website provides the ability to type short comments directly into the comment field or attach a file for lengthier comments. Go to http://www.regulations.gov and follow the instructions on the site.

• Mail: General Services Administration, Regulatory Secretariat Division (MVCB), 1800 F Street NW, Washington, DC 20405. ATTN: Ms. Mandell/IC 9000-0010, Progress Payments, SF 1443.

Instructions: All items submitted must cite Information Collection 9000-0010, Progress Payments, SF 1443. Comments received in response to this docket will be made available for public inspection and posted without change, including any personal information, at http://www.regulations.gov. Comments received generally will be posted without change to http://www.regulations.gov, including any personal and/or business confidential information provided. To confirm receipt of your comment(s), please check www.regulations.gov, approximately two to three days after submission to verify posting (except allow 30 days for posting of comments submitted by mail). This information collection is pending at the FAR Council. The Council will submit it to OMB within 60 days from the date of this notice.

FOR FURTHER INFORMATION CONTACT: Ms. Zenaida Delgado, Procurement Analyst, at telephone 202-969-7207, or email zenaida.delgado@gsa.gov.

SUPPLEMENTARY INFORMATION:

A. Overview of Information Collection

Description of the Information Collection

1. Type of Information Collection: Revision/Renewal of a currently approved collection.

2. Title of the Collection—Progress Payments, SF 1443

3. Agency form number, if any:— SF 1443

Solicitation of Public Comment

Written comments and suggestions from the public should address one or more of the following four points:

(1) Evaluate whether the collection of information is necessary for the proper performance of the functions of the agency, including whether the information will have practical utility;

(2) Evaluate the accuracy of the agency's estimate of the burden of the proposed collection of information, including the validity of the methodology and assumptions used;

(3) Enhance the quality, utility, and clarity of the information to be collected; and

(4) Minimize the burden of the collection of information on those who are to respond, including through the use of appropriate automated, electronic, mechanical, or other technological collection techniques or other forms of information technology, e.g., permitting electronic submission of responses.

B. Purpose

Certain Federal contracts provide for progress payments to be made to the contractor during performance of the contract. Pursuant to FAR clause 52.232-16 “Progress Payments,” contractors are required to request progress payments on Standard Form (SF) 1443, “Contractor's Request for Progress Payment,” or an agency approved electronic equivalent. Additionally, contractors may be required to submit reports, certificates, financial statements, and other pertinent information, reasonably requested by the Contracting Officer. The contractual requirement for submission of reports, certificates, financial statements and other pertinent information is necessary for protection of the Government against financial loss through the making of progress payments.

C. Annual Reporting Burden

The Electronic Document Access system (DoD official contract file system) indicates that in Fiscal Year (FY) 2017, 19,755 DoD contract awards contain FAR clause 52.232-16, Progress Payments.

The estimated total burden is as follows:

Respondents: 19,755.

Responses per Respondent: 32.

Total Annual Responses: 632,160.

Hours per Response: 0.42.

Total Burden Hours: 265,507.

Affected Public: Businesses or other for-profit and not-for-profit institutions.

Frequency: Annually.

Obtaining Copies: Requesters may obtain a copy of the information collection documents from the General Services Administration, Regulatory Secretariat Division (MVCB), 1800 F Street NW, Washington, DC 20405, telephone 202-501-4755. Please cite OMB Control No. 9000-0010, Progress Payments, SF 1443, in all correspondence.

Dated: April 24, 2018.
Lorin Curit,
Director, Federal Acquisition Policy Division, Office of Governmentwide Acquisition Policy, Office of Acquisition Policy, Office of Governmentwide Policy.

[FR Doc. 2018-08894 Filed 4-26-18; 8:45 am]

BILLING CODE 6820-EP-P